DEPARTMENT OF JUSTICE

Notice of Lodging of Proposed Consent Decree Under the Clean Air Act

On September 10, 2019, the Department of Justice lodged a proposed Consent Decree with the United States District Court for the District of Arizona in the lawsuit entitled United States v. Nouryon Functional Chemicals LLC f/k/a Akzo Nobel Functional Chemicals LLC, Civil Action No. 1:19-cv-00626.

The United States filed this civil enforcement action under the federal Clean Air Act. The United States' complaint seeks injunctive relief and civil penalties for violations of the regulations that govern emissions from the defendant's sulfuric acid manufacturing facility in Axis, Alabama. The proposed consent decree resolves the claims alleged in the complaint and requires the defendant to perform injunctive relief that will significantly reduce emissions of sulfur dioxide and sulfuric acid mist, as well as other air pollutants, at its facility, and to pay a civil penalty of $300,000. Additionally, the proposed consent decree requires the defendant to perform an environmental mitigation project that will benefit communities adversely affected by pollution from its facility.

The publication of this notice opens a period for public comment on the proposed consent decree. Comments should be addressed to the Assistant Attorney General, Environment and Natural Resources Division, and should refer to United States v. Akzo Nobel Functional Chemicals LLC, D.J. Ref. No. 90-5-2-1-11404. All comments must be submitted no later than thirty (30) days after the publication date of this notice. Comments may be submitted either by email or by mail:

To submit comments: | Send them to:
By email | pubcomment-ees.enrd@usdoj.gov.
By mail | Assistant Attorney General. U.S. DOJ—ENRD, P.O. Box 7611. Washington, DC 20044-7611.

During the public comment period, the proposed consent decree may be examined and downloaded at this Justice Department website: http://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $16.00 (25 cents per page reproduction cost) payable to the United States Treasury.

Henry Friedman,
Assistant Section Chief, Environmental Enforcement Section, Environment and Natural Resources Division.

[FR Doc. 2019-19940 Filed 9-13-19; 8:45 am]

BILLING CODE 4410-15-P